ENVIRONMENTAL PROTECTION AGENCY

40 CFR Part 52

[EPA-R09-OAR-2013-0657; FRL-9907-00-Region 9]

Approval and Promulgation of Implementation Plans; State of Arizona; Payson PM10 Air Quality Planning Area

AGENCY: Environmental Protection Agency (EPA).

ACTION: Direct final rule.

SUMMARY: Pursuant to the Clean Air Act (CAA), the Environmental Protection Agency (EPA) is approving a revision to the Payson portion of the Arizona State Implementation Plan (SIP) submitted by the Arizona Department of Environmental Quality on January 23, 2012. This revision consists of the second ten-year maintenance plan for the Payson air quality planning area for the national ambient air quality standards (NAAQS) for particulate matter less than 10 microns in diameter (PM10). EPA is approving this plan based on the conclusion that the plan adequately provides for continued maintenance of the PM10 NAAQS in the Payson area through 2022. EPA is taking this action pursuant to those provisions of the CAA that obligate the Agency to take action on submittals of revisions to SIPs. The effect of this action is to make the State's continuing commitments with respect to maintenance of the PM10 NAAQS in the Payson area federally enforceable for another ten years.

DATES: This rule is effective on May 19, 2014 without further notice, unless EPA receives adverse comments by April 18, 2014. If we receive such comments, we will publish a timely withdrawal in the Federal Register to notify the public that this direct final rule will not take effect.

ADDRESSES: Submit comments, identified by docket number EPA-R09-OAR-2013-0657, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Nancy Levin, EPA Region IX, (415) 972-3848, levin.nancy@epa.gov.

SUPPLEMENTARY INFORMATION: Throughout this document, “we,” “us” and “our” refer to EPA.

Table of Contents

I. Summary of Action

II. Introduction

A. Clean Air Act Requirements and Air Quality Designations and Plans for the Payson Area

B. Applicable CAA Provisions for PM10 Maintenance Plans

C. Limited Maintenance Plan Option

III. Review of the Arizona SIP Submittal Addressing These Provisions

A. Has the State met the procedural requirements for SIP revisions?

B. Has the State demonstrated that the area continues to qualify for the Limited Maintenance Plan option?

C. Is the updated emission inventory acceptable?

D. Are the plan control measures permanent and enforceable?

E. Has the State committed to continue to operate an appropriate PM10 air quality monitoring network?

F. Does the plan continue to meet the CAA provisions for contingency measures?

G. How are transportation and general conformity requirements being met?

1. Transportation Conformity

2. General Conformity

IV. Final Action

V. Statutory and Executive Order Reviews

I. Summary of Action

Under section 110(k) of the Clean Air Act (CAA or “Act”), we are approving the Final Update of the Limited Maintenance Plan for the Payson PM 10 Maintenance Area (December 2011) (“Second Ten-Year Limited Maintenance Plan,” or “Second Ten-Year LMP”) submitted on January 23, 2012 by the Arizona Department of Environmental Quality (ADEQ) as a revision to the Arizona State Implementation Plan (SIP). We find that the submittal meets subsequent maintenance plan requirements under CAA section 175A(b).

II. Introduction

A. Clean Air Act Requirements and Air Quality Designations and Plans for the Payson Area

Under the Clean Air Act (CAA or “Act”), EPA is required to establish national ambient air quality standards (NAAQS or “standards”) for pervasive air pollutants at levels that protect the public health and welfare. Particulate matter with an aerodynamic diameter less than or equal to a nominal ten micrometers (“microns”), or PM10, is one of the air pollutants for which EPA has established health-based standards. On July 1, 1987, EPA promulgated two standards for PM10: a 24-hour standard of 150 micrograms per cubic meter (µg/m³) and an annual PM10 standard of 50 µg/m³. 52 FR 24634 (July 1, 1987). Effective December 18, 2006, EPA revoked the annual PM10 standard but retained the 24-hour PM10 standard. 71 FR 61144 (October 17, 2006). In this document, references to the PM10 NAAQS or PM10 standard refer to the 24-hour-average standard of 150 micrograms per cubic meter (µg/m³), unless otherwise noted.

Under section 107(d) of the CAA, EPA is required to designate areas of the country as attainment, unclassifiable, or nonattainment for each of the NAAQS depending on whether the NAAQS are being met. Under the CAA Amendments of 1990, the Payson area was designated as part of a large “unclassifiable” area in Arizona for the PM10 NAAQS. In 1993 (58 FR 67334, December 21, 1993), in light of PM10 NAAQS violations monitored in 1989 and 1990, EPA redesignated the Payson air quality planning area as a “moderate” nonattainment area for the PM10 NAAQS.¹ To meet the SIP planning requirements for such areas, State and local agencies adopted and implemented a number of control measures to reduce PM10 emissions and lower ambient PM10 concentrations in the Payson area, including the paving of certain unpaved roads and restrictions on residential wood combustion. In 2002 (67 FR 7082, February 15, 2002), EPA determined that the Payson area had attained the PM10 NAAQS by the applicable attainment date of December 31, 2000.

¹ The Payson air quality planning area is 144 square miles in size, centered around the Town of Payson, Arizona, a community of approximately 17,000 persons in the north central portion of Gila County, approximately 90 miles northeast of Phoenix. For the precise boundaries of this area, please see the entry for Payson in the PM10 table in 40 CFR 81.303.

Later that same year, ADEQ submitted a maintenance plan, titled Payson Moderate Area PM 10 Maintenance Plan and Request for Redesignation to Attainment Submittal Package (March 2002) (“First Ten-Year Limited Maintenance Plan” or “First Ten-Year LMP”) to EPA as a revision to the Arizona SIP, and requested redesignation of the Payson area to attainment. The First Ten-Year LMP was intended to provide for maintenance of the PM10 NAAQS in the Payson area for ten years after redesignation. In June 2002 (67 FR 43013, June 26, 2002), EPA approved the First Ten-Year LMP for the Payson area as providing for maintenance through 2012, and redesignated the area to attainment for the PM10 NAAQS.

Under CAA section 175A(b), former nonattainment areas that are redesignated to attainment and subject to a maintenance plan must develop, adopt, and submit a subsequent maintenance plan that provides for continued maintenance of the NAAQS for a second ten-year period following the end of the first ten-year period. On January 23, 2012, ADEQ submitted the Second Ten-Year LMP for the Payson area to meet the requirement for a subsequent maintenance plan under CAA section 175A(b). The Second Ten-Year LMP is intended to provide for continued maintenance of the PM10 NAAQS for the ten-year period following the end of the first ten-year period, i.e., through year 2022.

Consistent with requirements at the time, the First Ten-Year LMP provided for maintenance of both the 24-hour average and annual average PM10 NAAQS. However, as noted above, since then, EPA has revoked the annual average PM10 NAAQS, and thus, the Second Ten-Year LMP, which is the subject to today's action, addresses only maintenance of the 24-hour PM10 NAAQS.

B. Applicable CAA Provisions for PM10 Maintenance Plans

CAA section 175A provides the general framework for maintenance plans. The maintenance plan must provide for maintenance of the NAAQS for at least 10 years after redesignation, and must include any additional control measures as may be necessary to ensure such maintenance. In addition, maintenance plans are to contain such contingency provisions as we deem necessary to assure the prompt correction of a violation of the NAAQS that occurs after redesignation. The contingency measures must include, at a minimum, a requirement that the State will implement all control measures contained in the nonattainment SIP prior to redesignation. Beyond these provisions, however, CAA section 175A does not define the contents of a maintenance plan.

With respect to subsequent maintenance plans, CAA section 175A(b) requires States to submit an additional SIP revision to maintain the NAAQS for ten years after the expiration of the ten-year period covered by the initial maintenance plan approved in connection with redesignation of the area from nonattainment to attainment. Our primary guidance on maintenance plans is a September 4, 1992 memo from John Calcagni, Director, Office of Air Quality Planning and Standards, to Directors of EPA Regional Air Programs, entitled “Procedures for Processing Requests to Redesignate Areas to Attainment” (“Calcagni memo”). In addition, we have relied upon guidance discussed in the next subsection of this document.

C. Limited Maintenance Plan (LMP) Option

On August 9, 2001, EPA issued guidance on streamlined maintenance plan provisions for certain moderate PM10 nonattainment areas seeking redesignation to attainment (Memorandum from Lydia Wegman, Director, Office of Air Quality Planning and Standards, to Directors of EPA Regional Air Programs entitled “Limited Maintenance Plan Option for Moderate PM10 Nonattainment Areas” or “LMP policy”). Herein, the option set forth in the LMP policy is referred to as the “LMP option.”

The LMP policy contains a statistical demonstration that areas meeting certain air quality criteria will, with a high degree of probability, maintain the standard ten years into the future. Thus, EPA provided the maintenance demonstration for areas meeting the criteria outlined in the memo. It follows that future year emission inventories for these areas, and some of the standard analyses to determine transportation conformity with the SIP, are no longer necessary.

To qualify for the LMP option, the State must demonstrate that the area meets the criteria described below. First, the area should be attaining the PM10 NAAQS. Second, the average PM10 design value for the area, based upon the most recent 5 years of air quality data at all monitors in the area, should be at or below 98 µg/m³ for the PM10 NAAQS, with no violations at any monitor in the nonattainment area. (See section IV of the LMP policy.) The 98 µg/m³ criterion provides a margin of safety for the PM10 NAAQS, which is 150 µg/m³. If an area cannot meet this test, it may still be able to qualify for the LMP option if the average design values of the site are less than their respective site-specific critical design values. Third, the area should expect only limited growth in on-road motor vehicle PM10 emissions (including fugitive dust) and should have passed a motor vehicle regional emissions analysis test. Lastly, the LMP policy identifies core provisions that must be included in all LMPs. These provisions include an attainment-year emissions inventory, assurance of continued operation of an EPA-approved air quality monitoring network, and contingency provisions.

The LMP policy also states that once the LMP option is in effect, the State must verify in each subsequent year that the area still qualifies for the LMP option by recalculating the area's average design value annually and determining that the LMP criteria are met for that year. If they are not met, the State should act to reduce emissions enough to requalify for the LMP option, for example, by using a contingency measure or other SIP-approved measure. If the attempt to reduce PM10 concentrations fails, or if it succeeds but in the future it becomes necessary to reduce PM10 concentrations again, the area no longer qualifies for an LMP and a full maintenance plan would need to be developed.

The LMP policy was written to address the maintenance plan requirements under section 175A for certain moderate PM10 nonattainment areas seeking redesignation to attainment. However, we believe the principles set forth therein are also appropriate for former moderate PM10 nonattainment areas that have been redesignated to attainment and are subject to an approved maintenance plan, but must develop and submit a subsequent maintenance plan to comply with CAA section 175A(b).

III. Review of the Arizona SIP Submittal Addressing These Provisions ²

² Our evaluation of the Second Ten-Year Maintenance Plan for the Payson area is presented in this section of the document. Further details on such issues as data completeness, calculation of five-year design values, residential wood combustion emissions estimates, industrial source emissions estimates, control measures, and the motor vehicle regional analysis are presented in our Technical Support Document titled “Ten-year Update for Limited Maintenance Plan for PM-10; State of Arizona; Payson,” dated January 2, 2014.

A. Has the State met the procedural requirements for SIP revisions?

Section 110(l) of the Act requires States to provide reasonable notice and public hearing prior to adoption of SIP revisions. Documents in ADEQ's submittal describe the public review process followed by ADEQ for the Second Ten-Year LMP for the Payson area prior to adoption and submittal to EPA as a revision to the Arizona SIP. The documentation provides evidence that reasonable notice of a public hearing was provided to the public and a public hearing was conducted prior to adoption.

The documentation is found in enclosure 4 of the January 23, 2012 submittal. Enclosure 4 includes evidence that reasonable notice of a public hearing was provided to the public and that a public hearing was conducted prior to adoption. Specifically, the affidavit of publication included in enclosure 4 shows that notice of a public hearing and the availability of, and opening of a 30-day comment period on, the Second Ten-Year LMP for the Payson area was published on September 30, 2011, in a newspaper of general circulation within the Payson area. The public hearing was held on November 2, 2011. No comments were received during the public comment period or at the public hearing. ADEQ adopted the plan and submitted it to EPA for approval on January 23, 2012.

Based on the documentation provided in enclosure 4 that was submitted by ADEQ with the Second Ten-Year LMP for the Payson area, we find that the submittal of the plan as a SIP revision satisfies the procedural requirements of section 110(l) of the Act.

B. Has the State demonstrated that the area continues to qualify for the Limited Maintenance Plan option?

Payson originally qualified for the LMP Option in 2002. In order to continue to qualify, the State must demonstrate that the area continues to meet the requirements of the LMP policy for the following ten-year period. For the reasons given below, we conclude that the Payson area continues to qualify for the LMP option and that the Second Ten-Year LMP for the Payson area meets all applicable requirements for subsequent maintenance plans under CAA section 175A(b).

Continued Attainment of the NAAQS

To qualify for the LMP Option, the first criterion is that the area is attaining the PM10 NAAQS. Generally, EPA determines whether an area's air quality is meeting the PM10 NAAQS based upon complete,³ quality-assured, and certified data gathered at established state and local air monitoring stations (SLAMS) in the nonattainment area, and entered into the EPA Air Quality System (AQS) database. Data from air monitors operated by State, local, or Tribal agencies in compliance with EPA monitoring requirements must be submitted to AQS. These monitoring agencies certify annually that these data are accurate to the best of their knowledge. Accordingly, EPA relies primarily on data in AQS when determining the attainment status of an area. All valid data are reviewed to determine the area's air quality status in accordance with 40 CFR part 50, appendix K.

³ For PM10, a “complete” set of data includes a minimum of 75 percent of the scheduled PM10 samples per quarter. See 40 CFR part 50, appendix K, section 2.3(a).

Attainment of the PM10 standard is determined by calculating the expected number of exceedances of the standard in a year. The PM10 standard is attained when the expected number of exceedances averaged over a three-year period is less than or equal to one at each monitoring site within the nonattainment area. See 40 CFR 50.6 and 40 CFR part 50, appendix K. Generally, three consecutive years of air quality data are required to show attainment of the PM10 standard. See 40 CFR part 50, appendix K.

ADEQ is responsible for monitoring ambient air quality outside the metropolitan areas in Arizona and is responsible for monitoring ambient air quality in the Payson area. Annually, ADEQ submits monitoring network plan reports to EPA. These reports discuss the status of the air monitoring network, as required under 40 CFR part 58. EPA reviews these annual network plans for compliance with the applicable reporting requirements in 40 CFR 58.10. EPA also conducts periodic technical system audits of state and local monitoring programs.

In our most recent technical system audit of ADEQ's monitoring program, we concluded, generally, that ADEQ's ambient air monitoring network currently meets or exceeds the requirements for the minimum number of monitoring sites designated as SLAMS for all of the criteria pollutants.⁴ Also, ADEQ annually certifies that the data it submits to AQS are quality-assured.⁵

⁴ See EPA's final report titled, “Technical System Audit, Arizona Department of Environmental Quality, Ambient Air Monitoring Program, April 9-April 13, 2012,” dated January 2013.

⁵ See, e.g., the letter from Eric C. Massey, Director, Air Quality Division, ADEQ, to Deborah Jordan, Air Division Director, EPA Region IX, dated May 16, 2013, certifying the ambient air quality data collected at the Payson site for year 2012.

ADEQ has operated a SLAMS PM10 monitor in the Town of Payson for more than 20 years. ADEQ's Payson monitor has been relocated a number of times, but, since 1999, has been located on West Aero Drive in Payson, and is referred to as the Payson Wells Site. This monitor was sited to provide PM10 concentration data at a neighborhood scale ⁶ to provide data for comparison with the NAAQS. ADEQ operates a partisol sampler at the Payson site, and, in 2009, added a second collocated partisol sampler for quality assurance purposes. Both collocated monitors run on a one-day-in-six monitoring schedule. EPA's most recent audit of ADEQ's monitoring program includes a number of findings in areas where ADEQ's monitoring program should be strengthened, but none of these findings cast significant doubt on the reliability of the data collected at the Payson site.

⁶ In this context, “neighborhood scale” refers to conditions throughout some reasonably homogeneous urban sub-region with dimensions of a few kilometers. See 40 CFR part 58, appendix D, section 4.6. Specific information about the Payson Wells Site in this paragraph comes from an ADEQ report titled “State of Arizona Air Monitoring Network Plan for the Year 2013,” dated October 29, 2013.

Table 1 summarizes the PM10 concentration data collected at the Payson monitor over the past 12 years, but for the purposes of determining current attainment of the NAAQS, we have focused our review on the data for the most recent three-year period (2010-2012). As shown in Table 1, the PM10 data from the Payson monitor represents a complete data set for the 2010-2012 period. Furthermore, this data set has been quality-assured and certified by ADEQ. No exceedances were recorded at the Payson monitor over the 2010-2012 period, and the maximum PM10 concentration measured over that period was 44 µg/m³, which is less than one-third of the 150 µg/m³ standard.

Thus, the expected number of exceedances per year for the Payson monitor for the most recent three-year period (i.e., 2010 to 2012) was 0.0 days per year. As such, based on complete, quality-assured and certified data for the 2010-2012 period, we conclude that the Payson area is attaining the standard, and thereby meets the first criterion for the LMP option. Data from 2013, while incomplete and preliminary, are also consistent with this finding of attainment.

Table 1—Summary of 2002-2013 PM10 Monitoring Data for Payson Area
Year | Maximum level (μg/m³) | Percent valid samples | Expected exceedances per year | Monitored 5-year design value (μg/m³) | 5-year design value with motor vehicle growth (μg/m³) | Critical design value (μg/m³)
2002 | 45 | 87 | 0.0 | 88 | 88 | NA
2003 | 98 | 90 | 0.0 | 98 | 99 | 127
2004 | 52 | 93 | 0.0 | 98 | 100 | 131
2005 | 80 | 80 | 0.0 | 98 | 100 | 134
2006 | 66 | 95 | 0.0 | 98 | 101 | 127
2007 | 61 | 97 | 0.0 | 98 | 102 | 129
2008 | 42 | 97 | 0.0 | 80 | 85 | NA
2009 | 40 | 95 | 0.0 | 80 | 85 | NA
2010 | 42 | 98 | 0.0 | 66 | 72 | NA
2011 | 39 | 97 | 0.0 | 61 | 68 | NA
2012 | 44 | 98 | 0.0 | 44 | 52 | NA
2013 | 58 | — | — | — | — | —
Sources: (1) AQS QuickLook report dated January 24, 2014. Data is from ADEQ's monitor located on West Aero Drive in Payson, Arizona. (2) The growth increment from motor vehicles was based on an estimated overall motor vehicle growth increment of 7.7 μg/m³ from 2002 to 2012 (see 67 FR at 43017, June 26, 2002), which was interpolated to add 0.77 μg/m³ per year during that period. (3) Critical Design Values were calculated by ADEQ in their annual LMP eligibility reports for the Payson PM10 area, which are included in the docket for this rulemaking.
Notes:
For the purposes of comparison, the PM10 NAAQS is 150 ug/m³.
NA = Not applicable. Critical Design Value is not applicable when the Design Value (including motor vehicle growth) is at or below 98 μg/m³.
— AQS only includes data from the first two quarters of 2013.

Five-Year Average Design Values

The second criterion for the LMP option is that the average 24-hour PM10 design value, based on the most recent 5 years of data at all monitors in the area, be at or below 98 ug/m³ with no violations at any monitor in the nonattainment area. If an area cannot meet this test, it may still qualify for the LMP option using the site-specific critical design value (CDV), which is an indicator of the likelihood of future violations at that site.⁷

⁷ See the LMP Policy, pp. 2-3 and attachment A to the LMP Policy.

For the Payson area, because there is only one monitoring site and given the frequency of monitoring (one day every six days), the “average design value” is simply the highest PM10 concentration measured at the Payson Wells Site over the most recent five calendar years. The Second Ten-Year LMP indicates that the design value for the Payson area based on data from 2006 through 2010 is 66 μg/m³, which is well below the criterion of 98 ug/m³. Based on more recent ambient monitoring data (2008 through 2012) than was available when the Second Ten-Year LMP was being prepared, the design value is 44 μg/m³, which is also well below the criterion of 98 μg/m³. Thus, the second criterion has been met.

Motor Vehicle Regional Emissions Analysis Test

The third criterion is referred to as the motor vehicle regional emissions analysis test. The methodology for this test is found in attachment B to the LMP policy. As a general matter, for this test, the monitor-based design value is increased based on the expected growth in motor vehicle traffic over the maintenance period. Specifically, the motor vehicle fraction of the design value concentration is assumed to equal the motor vehicle fraction of the overall emissions inventory. The motor vehicle fraction of the design value is then multiplied by the projected percentage increase in vehicle miles traveled (VMT) in the area over the next 10 years. The product of this calculation is then added to the monitor-based design value and compared with the applicable criterion, in this case, 98 μg/m³. If the sum is less than or equal to 98 μg/m³, then the criterion is met.

In the Second Ten-Year LMP for the Payson area, ADEQ used the updated inventory (see Table 2, below) to estimate that motor vehicles contribute approximately 62%, or 41 μg/m³, to the design value of 66 μg/m³ (based on 2006-2010 data). ADEQ then multiplied 41 μg/m³ by 0.24, based on the projected 10-year increase in traffic in the Payson area of approximately 24% to estimate the traffic growth increment of approximately 10 μg/m³. ADEQ then concluded that motor vehicle regional emissions analysis test was met because the sum of the motor vehicle growth increment (approximately 10 μg/m³) and the design value (66 μg/m³), or 76 μg/m³, is less than the criterion of 98 μg/m³. We have reviewed ADEQ's methods and calculations and find them acceptable. If the calculation were to be re-done using the most recent monitored 5-year design value (which is 44 μg/m³ based on 2008-2012 data), the test would be met by an even larger margin. Therefore, the third criterion for eligibility for the LMP option for the second 10-year period of maintenance is met.

Conclusion and Maintenance Demonstration

For the reasons given above, we conclude that the Payson area remains eligible for the LMP option. Under the LMP policy, the maintenance demonstration requirement under CAA section 175A is considered satisfied for areas meeting the LMP criteria discussed above, and because the Payson area continues to meet the LMP criteria, we conclude that no further demonstration of maintenance through the second 10-year period is necessary.

C. Is the updated emission inventory acceptable?

For LMPs, a State's submission should include an emissions inventory which can be used to demonstrate maintenance of the NAAQS by meeting the LMP eligibility criteria. The inventory should represent emissions during the same five-year period associated with air quality data used to determine whether the area meets the LMP applicability requirements.

As part of the Second Ten-Year LMP, ADEQ prepared a PM10 emissions inventory for 2008 for the Payson area. Year 2008 is one of the years within the five-year period over which the PM10 design value for the Payson area is calculated and thus is an acceptable inventory year. Based on ADEQ's estimates, shown in Table 2 below, on-road motor vehicles (including fugitive dust from entrainment of PM10 from travel on paved and unpaved roads, as well as exhaust, brake and tire wear) contribute approximately 62% to the total PM10 inventory, while construction and residential wood combustion contribute 32.6% and 4.6%, respectively. Industrial sources contribute less than 1%.

Table 2—Payson PM10 Maintenance Area—2008 Emission Inventory
Source category | Payson Maintenance Area PM10 emissions (tons per day) | Percent of total PM10 emissions in Payson Maintenance Area
Unpaved Roads—Fugitive Dust | 0.29 | 30.4
Paved Roads—Fugitive Dust | 0.27 | 28.8
Paved and Unpaved Roads—Exhaust, Tire, and Brake Wear | 0.03 | 2.8
Subtotal—Motor Vehicles | 0.59 | 62.0
Construction | 0.31 | 32.6
Residential Wood Combustion | 0.04 | 4.6
Industrial Sources | 0.01 | 0.8
Total | 0.92 | 100.0
Source: Derived from Table 3.5 (page 17) of the Second Ten-Year LMP for the Payson area.

Section 3.2 of the Second Ten-Year LMP describes the methodology used to develop the attainment inventory. The emission inventory categories are the same as those identified in the First Ten-Year LMP, and the methodology used to determine the contribution of sources is largely the same as was used in the First Ten-Year LMP. ADEQ updated emissions for each source category based on current emissions models, vehicle activity, population and employment figures.

For instance, ADEQ updated motor vehicle emissions estimates using EPA's National Mobile Inventory Model (NMIM) to develop emission factors for motor vehicle exhaust, tire, and brake wear for motor vehicles. NMIM uses EPA's MOBILE6.2 emission factors, which were the most current factors at the time that development of the Second Ten-Year LMP was initiated. ADEQ used updated emission factors in EPA's Compilation of Air Pollutant Emission Factors (AP-42) to estimate PM10 entrained by vehicle movement over paved roads. ADEQ also updated the non-mobile source inventory with 2008 National Emission Inventory (NEI) data, primarily by adjusting county-specific estimates by the ratio of population in the Payson area to the population in Gila County. For point sources in Payson, ADEQ used industrial source data collected in an annual survey of permitted facilities.

ADEQ compared the 2008 emissions estimates with those prepared for the First Ten-Year LMP and provided a sufficient explanation for those source categories that differed significantly in the updated inventory relative to the previous inventory. ADEQ explained that the emissions from residential wood combustion decreased significantly due to the implementation of EPA's New Source Performance Standards (NSPS) for residential wood heaters (40 CFR part 60, subpart AAA) and that the emissions associated with fugitive dust from vehicle travel over unpaved roads increased significantly due to higher estimates of unpaved road VMT in the Payson air quality planning area.⁸

⁸ The First Ten-Year LMP relied on annual estimate of unpaved road VMT of 75,000 (see page 23 of the First Ten-Year LMP) whereas the corresponding estimate in the Second Ten-Year LMP is approximately 510,000 miles (see page 16 of the Second Ten-Year LMP).

During the period in which the draft Second Ten-Year LMP was being developed, EPA replaced MOBILE6.2 with a new motor vehicle emission factor model, known as Motor Vehicle Emission Simulator (or “MOVES”). In response to EPA's request to consider the impact on the inventory due to the release of MOVES, ADEQ re-calculated the motor vehicle emissions estimates using MOVES and projected a 0.006 ton per day increase in emissions from motor vehicle exhaust, brake and tire wear relative to the estimate made using MOBILE6.2.⁹ This incremental increase corresponds to a 0.1 μg/m³ increase in the estimate of the motor vehicle fraction of the design value. As such, use of MOVES, rather MOBILE6.2, has no effect on the continued eligibility of the Payson area for the LMP option.

⁹ See letter from Eric C. Massey, Director, Air Quality Division, ADEQ, to Jared Blumenfeld, Regional Administrator, EPA Region IX, dated February 10, 2014.

Based on our review of the methods, models, and assumptions used by ADEQ to develop the PM10 emission inventory, we find that the Second Ten-Year LMP for the Payson area includes a comprehensive inventory of PM10 emissions and conclude that the plan's inventory is acceptable for the purposes of a subsequent maintenance plan, in this case, a subsequent LMP, under CAA section 175A(b).

D. Are the plan control measures permanent and enforceable?

As discussed in our 2002 approval of the First Ten-Year LMP for the Payson area, the measures that brought the area into attainment are permanent and enforceable (67 FR 43013, at 43018, June 26, 2002). The Second Ten-Year LMP relies on the same control measures to continue to maintain the NAAQS for PM10 through 2022. The Second Ten-Year LMP has not revised these measures, which continue to be permanent and enforceable.

E. Has the State committed to continue to operate an appropriate PM10 air quality monitoring network?

ADEQ currently operates a single PM10 monitoring site in the Payson area. Operating a single monitor in this area is consistent with EPA's monitoring requirements. ADEQ has committed to continue to operate an appropriate PM10 air quality monitoring network to verify the attainment status of the Payson area in accordance with 40 CFR part 58. See section 6.0 of the Second Ten-Year LMP. In October 2013, ADEQ requested EPA approval of relocation of the Payson monitor to another location on the same property.¹⁰ EPA has not taken action yet on this request.

¹⁰ See letter from Eric C. Massey, Director, Air Quality Division, ADEQ, to Deborah Jordan, Air Division Director, EPA Region IX, dated October 1, 2013.

F. Does the plan continue to meet the CAA provisions for contingency measures?

Section 175A(d) states that a maintenance plan must include contingency provisions, as necessary, to ensure prompt correction of any violation of the NAAQS which may occur after redesignation of the area to attainment. These contingency measures do not have to be fully adopted at the time of redesignation. However, the contingency plan is considered to be an enforceable part of the SIP and the State should ensure that the contingency measures are adopted as soon as possible once they are triggered by a specific event. The contingency plan should identify the measure to be adopted, and provide a schedule and procedure for adoption and implementation of the measure if they are required.

In the Second Ten-Year LMP for the Payson area, ADEQ has, in most respects, carried forward the contingency plan adopted in the First Ten-Year LMP, which was approved by EPA in 2002. First, ADEQ commits to continue to submit annual reports to EPA that will include calculation of the Payson area PM10 design value to verify continued attainment and continued eligibility for the LMP option. See section 6.0 of the Second Ten-Year LMP for the Payson area.

ADEQ made a similar commitment in the approved First Ten-Year LMP and has met its commitment through submittal of annual reports to EPA. We note that the annual reports did not address the motor vehicle regional emissions analysis test although we acknowledge that doing so would not have changed the status of the Payson area with respect to eligibility for the LMP option. ADEQ should address the motor vehicle regional emissions analysis test in annual reports submitted to EPA under the Second Ten-Year LMP.

Second, as part of the contingency plan, ADEQ has committed to determine whether or not PM10 NAAQS violations have been recorded within six months of the close of each calendar year, and to review and determine the appropriate contingency measure(s) by the end of the same calendar year. See section 5.3 of the Second Ten-Year LMP. Table 3 below lists the measures that ADEQ commits to consider for implementation in the event of a violation of the PM10 NAAQS or in the event the annual recalculation of the area's design value exceeds the applicable LMP option criteria. The cause of the violation or exceedance of the LMP option criteria will help to determine the appropriate contingency measure(s) to be implemented.

Table 3—Payson Area Contingency Measures
Contingency measures | Implementing entity
If any PM10 industrial source operating within the maintenance area is found to be contributing to monitored readings above the LMP allowable limits, ADEQ will review existing air quality permit(s) to identify additional PM10 control measures which may be needed. If the PM10 source does not have a permit, the permitting authority will determine if an air quality permit and PM10 controls are needed | ADEQ.
If wood burning sources are found to be contributing to monitored readings above the LMP allowable limits, ADEQ will review State regulations and programs to determine appropriate action | ADEQ.
Pave or stabilize public unpaved roads, vacant lots, or unpaved parking lots located in the PM10 maintenance area subject to limits of statutory authority | Town of Payson and/or Gila County.
Continuation of Smoke Management Plan—State and Federal land managers conducting prescribed burning must register with ADEQ for proposed burning activities under Arizona Administrative Code title 18, chapter 2, article 15 (Forest & Range Management Burns). ADEQ maintains the ability to deny permission for burning on certain high risk days (dependent on meteorological conditions) and may increase outreach and enforcement resources | U.S. Forest Service, U.S. Bureau of Land Management, Arizona State Land Department, ADEQ.

Finally, the State has committed to implement the selected contingency measure(s) within one year of determining that a PM10 NAAQS violation has occurred. Lastly, should the levels rise above the limits qualifying the area for the LMP option despite implementation of contingency measures, ADEQ has committed to develop and submit a full maintenance plan to EPA. We conclude that these measures and commitments meet the requirements of CAA section 175A(d).

G. How are transportation and general conformity requirements being met?

Section 176(c) of the Act requires that all Federal actions conform to an applicable SIP. Conformity is defined in section 176(c) of the Act as conformity to a SIP's purpose of eliminating or reducing the severity and number of violations of the NAAQS and achieving expeditious attainment of such standards, and that such activities will not: (1) Cause or contribute to any new violation of any standard in any area; (2) increase the frequency or severity of any existing violation of any standard in any area; or (3) delay timely attainment of any standard or any required interim emission reductions or other milestones in any area.

EPA has established criteria and procedures for Federal agencies to follow in determining conformity of their actions. EPA's rule governing transportation plans, programs, and projects approved or funded by the Federal Highway Administration or Federal Transit Administration is referred to as the “transportation conformity” rule (see 40 CFR part 93, subpart A), and EPA's rule governing all other types of Federal agency actions is referred to as the “general conformity” rule (see 40 CFR part 93, subpart B).

The transportation conformity rule and the general conformity rule apply to nonattainment and maintenance areas. Both rules provide that conformity can be demonstrated by showing that the expected emissions from planned actions are consistent with the emissions budget for the area. While EPA's LMP option does not exempt an area from the need to affirm conformity, the LMP policy explains that the area may demonstrate conformity without submitting an emissions budget.

Transportation Conformity

Under the LMP option, emissions budgets are treated as essentially not constraining for the length of the maintenance period because it is unreasonable to expect that qualifying areas would experience so much growth in that period that a violation of the NAAQS would result. Therefore, in areas with approved LMPs, Federal actions requiring conformity determinations under the transportation conformity rule are considered to satisfy the “budget test” required in 40 CFR 93.118.

While areas with maintenance plans approved under the LMP option are not subject to the budget test, the areas remain subject to other transportation conformity requirements of 40 CFR Part 93, Subpart A. Thus, the applicable metropolitan planning organization (MPO) in the area or the State will still need to document and ensure that:

(a) Transportation plans and projects provide for timely implementation of SIP transportation control measures (TCMs) in accordance with 40 CFR 93.113;

(b) transportation plans and projects comply with the fiscal constraint element per 40 CFR 93.108;

(c) the MPO's interagency consultation procedures meet applicable requirements of 40 CFR 93.105;

(d) conformity of transportation plans is determined no less frequently than every three years, and conformity of plan amendments and transportation projects is demonstrated in accordance with the timing requirements specified in 40 CFR 93.104;

(e) the latest planning assumptions and emissions model are used as set forth in 40 CFR 93.110 and 40 CFR 93.111;

(f) projects do not cause or contribute to any new localized carbon monoxide or particulate matter violations, in accordance with procedures specified in 40 CFR 93.123; and

(g) project sponsors and/or operators provide written commitments as specified in 40 CFR 93.125.

Upon approval of the Second Ten-Year LMP for the Payson area, the State (in this case, the Arizona Department of Transportation) will continue to be exempt from performing a regional emissions analysis, but must continue to meet project-level analyses as well as the transportation conformity criteria mentioned above.

We posted notice of receipt of the Second Ten-Year LMP for the Payson area on EPA's adequacy review Web site on January 23, 2014, and took comments until February 24, 2014. See EPA's conformity Web site: http://www.epa.gov/otaq/stateresources/transconf/currsips.htm. Once there, click on the link for the Payson LMP. Because LMPs do not contain budgets, the adequacy review period for this maintenance plan serves to allow the public to comment on whether the LMP option is appropriate for this area. We did not receive any comments during the adequacy review comment period.

Lastly, if during the course of the second ten-year maintenance period, the LMP criteria are no longer satisfied and a full maintenance plan must be developed to meet CAA requirements, the approval of the LMP would remain applicable for transportation conformity purposes only until the full maintenance plan is submitted and EPA has found its motor vehicle emissions budgets adequate for conformity purposes under 40 CFR 93.118.

General Conformity

For Federal actions that are required to address the specific requirements of the general conformity rule, one set of requirements applies particularly to ensuring that emissions from a federal action will not cause or contribute to new violations of the NAAQS, exacerbate current violations, or delay timely attainment. One way that this requirement can be met is to demonstrate that “the total of direct and indirect emissions from the action (or portion thereof) is determined and documented by the State agency primarily responsible for the applicable SIP to result in a level of emissions which, together with all other emissions in the nonattainment area, would not exceed the emissions budgets specified in the applicable SIP.” 40 CFR 93.158(a)(5)(i)(A).

The decision about whether to include specific allocations of allowable emissions increases to sources (“emissions budgets”) is one made by the State and local air quality agencies. Such emissions budgets are unlike and not to be confused with those used in transportation conformity. Emissions budgets in transportation conformity are required to limit and restrain emissions. Emissions budgets in general conformity allow increases in emissions up to specified levels.

ADEQ has chosen not to include any specific emissions allocations for Federal projects that would be subject to the provisions of general conformity in the Second Ten-Year LMP for the Payson area. Similar to transportation conformity, in LMP areas, Federal actions subject to the general conformity rule could be considered to satisfy the “budget test” specified in 40 CFR 93.158(a)(5)(i)(A) of the rule, for the same reasons that the budgets are essentially considered to be unlimited.

IV. Final Action

Under CAA section 110(k), EPA is approving the second ten-year limited maintenance plan for the Payson air quality planning area for the PM10 NAAQS that was submitted by ADEQ on January 23, 2012 as a revision to the Arizona SIP. EPA is approving this plan based on the conclusion that the plan adequately provides for continued maintenance of the PM10 NAAQS in the Payson area through 2022 and thereby meets the requirements for subsequent maintenance plans under section 175A of the Act. The effect of this action is to make the State's continuing commitments with respect to maintenance of the PM10 NAAQS in the Payson area federally enforceable for another ten years. These commitments include continued monitoring; continued implementation of control measures that were responsible for bringing the area into attainment; preparation and submittal of annual reports; consideration and implementation of contingency measures, if necessary; and submittal of a full maintenance plan if contingency measures fail to provide the necessary remedy.

We are publishing this action without prior proposal because we view this as a noncontroversial amendment and anticipate no adverse comments. However, in the proposed rules section of this Federal Register publication, we are publishing a separate document that will serve as the proposal to approve the Payson Second Ten-Year LMP if relevant adverse comments are filed. This rule will be effective May 19, 2014, without further notice unless relevant adverse comments are received by April 18, 2014. If we receive such comments, this direct final action will be withdrawn before the effective date. All public comments received will then be addressed in a subsequent final rule based on the proposed action. We will not institute a second comment period. Any parties interested in commenting on this action should do so at this time. If no such comments are received, the public is advised that this action will be effective May 19, 2014.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves a State plan as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 19, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Particulate matter, Reporting and recordkeeping requirements.

Dated: March 5, 2014.
Jared Blumenfeld,
Regional Administrator, Region IX.

Part 52, Chapter I, Title 40 of the Code of Federal Regulations is amended as follows:

PART 52 [AMENDED]

1. The authority citation for Part 52 continues to read as follows:

Authority: 42 U.S.C. 7401 et seq.

Subpart D—Arizona

2. Section 52.120 is amended by adding paragraph (c)(159) to read as follows:

§ 52.120 Identification of plan.

* * * * *

(c) * * *

(159) The following plan was submitted on January 23, 2012 by the Governor's Designee.

(i) [Reserved]

(ii) Additional Materials.

(A) Arizona Department of Environmental Quality

(1) Final Update of the Limited Maintenance Plan for the Payson PM10 Maintenance Area (December 2011), adopted by the Arizona Department of Environmental Quality on January 23, 2012.

[FR Doc. 2014-05669 Filed 3-18-14; 8:45 am]

BILLING CODE 6560-50-P